DEPARTMENT OF COMMERCE

National Oceanic and Atmospheric Administration

U.S. Coral Reef Task Force Public Meeting and Public Comment

AGENCY: National Ocean Service, NOAA, Department of Commerce.

ACTION: Notice of public meeting, notice of public comment.

SUMMARY: Notice is hereby given of a public meeting of the U.S. Coral Reef Task Force. The meeting will be held in Koror, Palau. This meeting, the 14th bi-annual meeting of the U.S. Coral Reef Task Force, provides a forum for coordinated planning and action among federal agencies, state and territorial governments, and nongovernmental partners. Held in Koror, Palau, this is the first Coral Reef Task Force meeting to be held outside the United States states, territories, or commonwealths and provides an opportunity to learn about coral reef science and management strategies in the Freely Associated States. This meeting has time allotted for public comment and provides exhibit space. All public comment must be submitted in written format at the meeting if able to attend or prior to the meeting if unable to attend. If you plan to attend, please register in advance by visiting the Web site listed below. Registration for public comment and exhibit space is also available at this site.

Those who wish to attend but cannot due to travel and other considerations can find background materials at the Web site listed below and may submit written statements to the e-mail, fax, or mailing address listed below. A written summary of the meeting will be posted on the Web site within two months of its occurrence.

DATES: The meeting will be held on Saturday, November 5, 2005, 8:30-5:30 and Monday, November 7, 2005, 8:30-5:30. Advance public comments can be submitted from Monday, October 3, 2005-Friday, October 22, 2005.

Location: The meeting will be held at the Ngarachamayong Cultural Center, located at Medalaii, Koror 96940, Koror, Palau.

FOR FURTHER INFORMATION CONTACT: Beth Dieveney, U.S. Coral Reef Task Force Coordinator, Coral Reef Conservation Program, 1305 East-West Highway, Silver Spring, Maryland, 20910 (phone: 301-713-2989 ext. 200, Fax: 301-713-4389, e-mail: Beth.Dieveney@noaa.gov, or visit the U.S. Coral Reef Task Force Web site at http://www.coralreef.gov).

SUPPLEMENTARY INFORMATION: Established by Presidential Executive Order 13089 in 1998, the U.S. Coral Reef Task Force mission is to lead, coordinate, and strengthen U.S. government actions to better preserve and protect coral reef ecosystems. Co-chaired by the Departments of Commerce and Interior, Task Force members include leaders of 12 Federal agencies, seven U.S. States and territories, and three freely associated states. For more information about the meeting, traveling to Palau, registering, and submitting public comment go to http://www.coralreef.gov.

Dated: June 22, 2005.
David Kennedy,
Manager, Coral Reef Conservation Program.

[FR Doc. 05-12774 Filed 6-28-05; 8:45 am]

BILLING CODE 3510-JE-P